DEPARTMENT OF ENERGY

Federal Energy Regulatory Commission

[Docket No. EC02-23-000, et al.]

Trans-Elect, Inc., et al.; Electric Rate and Corporate Regulation Filings

March 6, 2002.

Take notice that the following filings have been made with the Commission. Any comments should be submitted in accordance with Standard Paragraph E at the end of this notice.

1. Trans-Elect, Inc., Michigan Transco Holdings, L.P., Consumers Energy Company and Michigan Electric Transmission Company

[Docket Nos. EC02-23-000 and ER02-320-002]

Take notice that on March 4, 2002, Consumers Energy Company (CECo) filed changes to its easement agreement with Michigan Electric Transmission Company which agreement is associated with the transfer of CECo's electrical transmission facilities to a subsidiary of Trans-Elect, Inc.

CECo states that the purpose of this filing is to comply with Ordering Paragraph (D) of the Federal Energy Regulatory Commission's (Commission) Order Conditionally Authorizing Disposition of Jurisdictional Facilities and Conditionally Approving Proposed Rates and Agreements, 98 FERC ¶ 61,142.

CECo states that a copy of this filing is available for public inspection during regular business hours at CECo's Washington legal office at 1016 16th Street, NW., Suite 100, Washington, DC 20036. In addition copies of this filing are being served on all parties and the Michigan Public Service Commission.

Comment Date: March 18, 2002.

2. Ameren Service Company

[Docket Nos. ER00-1379-001, ER00-1386-001, ER00-2068-001 and ER00-2365-002]

Take notice that on March 1, 2002, Ameren Service Company tendered for filing with the Federal Energy Regulatory Commission (Commission) a Compliance Refund Report pursuant to the Commission's Letter Order issued January 16, 2002 in the above-referenced proceedings.

Comment Date: March 22, 2002.

3. Tri-State Power, LLC

[Docket No. ER01-2444-002]

Take notice that on March 1, 2002, Tri-State Power, LLC (TSP) tendered for filing with the Federal Energy Regulatory Commission (Commission) a long-term contract under which (TSP) will sell electricity under Rate Schedule FERC No. 1 to Tri-State Generation & Transmission Association, Inc. (TSGTA). TSP also filed a short-term agreement under which it will sell start-up test energy to TSGTA.

Comment Date: March 22, 2002.

4. American Electric Power Service Corporation

[Docket No. ER02-371-003]

Take notice that on March 1, 2002, American Electric Power Service Corporation (AEP), on behalf of its public utility operating companies, submitted for filing revised pages to the AEP open access transmission service tariff and to the Transmission Coordination Agreement in compliance with the Commission's January 16, 2002 order in the above-captioned proceeding.

AEP states that a copy of the transmittal letter has been served on all parties to this proceeding, all customers under the tariff and a copy of the filing has been served on the Public Utility Commission of Texas, the Louisiana Public Service Commission, the Arkansas Public Service Commission and the Oklahoma Corporation Commission.

Comment Date: March 22, 2002.

5. Tampa Electric Company

[Docket No. ER02-508-002]

Take notice that on February 28, 2002, Tampa Electric Company (TEC) tendered for filing in compliance with the February 1, 2002 letter order a revised Interconnection and Operating Agreement between TEC and CPV Pierce, Ltd. as a service agreement under TEC's open access transmission tariff.

Comment Date: March 21, 2002.

6. Tampa Electric Company

[Docket No. ER02-551-002]

Take notice that on February 28, 2002, Tampa Electric Company (TEC) tendered for filing in compliance with the February 1, 2002 letter order a revised Interconnection and Operating Agreement between TEC and Calpine Construction Finance Company, L.P. as a service agreement under TEC's open access transmission tariff.

Comment Date: March 21, 2002.

7. Cinergy Services, Inc.

[Docket Nos. ER02-666-001, ER02-667-001 and ER02-668-001]

Take notice that on March 1, 2002, Cinergy Services, Inc., (Cinergy), submitted for filing First Revised Rate Schedule Nos. 286, 288 and 292 to comply with the Commission's order of January 31, 2002 in the above referenced dockets.

Cinergy has served a copy of this compliance filing on the Public Utilities Commission of Ohio, The Midwest Independent System Operator, Strategic Energy, L.L.C., Newenergy, Inc., and FirstEnergy Services, Corp.

Comment Date: March 22, 2002.

8. Midwest Independent Transmission System Operator, Inc.

[Docket No. ER02-816-001]

Take notice that on March 1, 2002, the Midwest Independent Transmission System Operator, Inc. (Midwest ISO) tendered for filing, pursuant to section 205 of the Federal Power Act (FPA), 16 U.S.C. 824d (2000) and Sections 35.16 and 385.205 of the Commission's regulations, 18 CFR 35.16 and 385.205, corrected cover sheets and other information concerning the Notice of Succession of contractual arrangements that were to be assigned to the Midwest ISO by Cinergy Services, Inc. (Cinergy). The Midwest ISO submits that its filing is in compliance with Order No. 614.

Pursuant to the Commission's regulations, 18 CFR 385.2010, the Midwest ISO has served this filing on all parties on the official service list in this proceeding. In addition, the Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: March 22, 2002.

9. Midwest Independent Transmission System Operator, Inc.

[Docket No. ER02-830-001]

Take notice that on March 1, 2002, the Midwest Independent Transmission System Operator, Inc. (Midwest ISO) tendered for filing, pursuant to section 205 of the Federal Power Act (FPA), 16 U.S.C. 824d (2000) and Sections 35.16 and 385.205 of the Commission's regulations, 18 CFR 35.16 and 385.205, corrected cover sheets and other information concerning the Notice of Succession of contractual arrangements that were to be assigned to the Midwest ISO by Minnesota Power & Light Company (Minnesota Power).

The Midwest ISO states that its filing is in compliance with Order No. 614. Pursuant to the Commission's regulations, 18 CFR 385.2010, the Midwest ISO has served this filing on all parties on the official service list in this proceeding. In addition, the Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: March 22, 2002.

10. Midwest Independent Transmission System Operator, Inc.

[Docket No. ER02-850-001]

Take notice that on March 1, 2002, the Midwest Independent Transmission System Operator, Inc. (Midwest ISO) tendered for filing, pursuant to section 205 of the Federal Power Act (FPA), 16 U.S.C. 824d (2000) and Sections 35.16 and 385.205 of the Commission's regulations, 18 CFR 35.16 and 385.205, corrected cover sheets and other information concerning the Notice of Succession of contractual arrangements that were to be assigned to the Midwest ISO by Louisville Gas & Electric Company/Kentucky Utilities (LG&E/KU). The Midwest ISO submits that its filing is in compliance with Order No. 614.

Pursuant to the Commission's regulations, 18 CFR 385.2010, the Midwest ISO has served this filing on all parties on the official service list in this proceeding. In addition, the Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: March 22, 2002.

11. Midwest Independent Transmission System Operator, Inc.

[Docket No. ER02-863-001]

Take notice that on March 1, 2002, the Midwest Independent Transmission System Operator, Inc. (Midwest ISO) tendered for filing, pursuant to section 205 of the Federal Power Act (FPA), 16 U.S.C. 824d (2000) and Sections 35.16 and 385.205 of the Commission's regulations, 18 CFR 35.16 and 385.205, corrected cover sheets and other information concerning the Notice of Succession of contractual arrangements that were to be assigned to the Midwest ISO by Alliant Energy Corporate Services, Inc. (Alliant). The Midwest ISO submits that its filing is in compliance with Order No. 614.

Pursuant to the Commission's regulations, 18 CFR 385.2010, the Midwest ISO has served this filing on all parties on the official service list in this proceeding. In addition, the Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: March 22, 2002.

12. Midwest Independent Transmission System Operator, Inc.

[Docket No. ER02-903-001]

Take notice that on March 1, 2002, the Midwest Independent Transmission System Operator, Inc. (Midwest ISO) tendered for filing, pursuant to section 205 of the Federal Power Act (FPA), 16 U.S.C. 824d (2000) and Sections 35.16 and 385.205 of the Commission's regulations, 18 CFR 35.16 and 385.205, corrected cover sheets and other information concerning the Notice of Succession of contractual arrangements that were to be assigned to the Midwest ISO by Otter Tail Power Company (OTP). The Midwest ISO submits that its filing is in compliance with Order No. 614.

Pursuant to the Commission's regulations, 18 CFR 385.2010, the Midwest ISO has served this filing on all parties on the official service list in this proceeding. In addition, the Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: March 22, 2002.

13. Midwest Independent Transmission System Operator, Inc.

[Docket No. ER02-918-001]

Take notice that on March 1, 2002, the Midwest Independent Transmission System Operator, Inc. (Midwest ISO) tendered for filing, pursuant to section 205 of the Federal Power Act (FPA), 16 U.S.C. 824d (2000) and Sections 35.16 and 385.205 of the Commission's regulations, 18 CFR 35.16 and 385.205, corrected cover sheets and other information concerning the Notice of Succession of contractual arrangements that were to be assigned to the Midwest ISO by Central Illinois Light Company (CILCO). The Midwest ISO submits that its filing is in compliance with Order No. 614.

Pursuant to the Commission's regulations, 18 CFR 385.2010, the Midwest ISO has served this filing on all parties on the official service list in this proceeding. In addition, the Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: March 22, 2002.

14. Midwest Independent Transmission System Operator, Inc.

[Docket No. ER02-919-001]

Take notice that on March 1, 2002, the Midwest Independent Transmission System Operator, Inc. (Midwest ISO) tendered for filing, pursuant to section 205 of the Federal Power Act (FPA), 16 U.S.C. 824d (2000) and Sections 35.16 and 385.205 of the Commission's regulations, 18 CFR 35.16 and 385.205, corrected cover sheets and other information concerning the Notice of Succession of contractual arrangements that were to be assigned to the Midwest ISO by Indianapolis Power & Light Company (IPL). The Midwest ISO submits that its filing is in compliance with Order No. 614.

Pursuant to the Commission's regulations, 18 CFR 385.2010, the Midwest ISO has served this filing on all parties on the official service list in this proceeding. In addition, the Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: March 22, 2002.

15. Midwest Independent Transmission System Operator, Inc.

[Docket No. ER02-941-001]

Take notice that on March 1, 2002, the Midwest Independent Transmission System Operator, Inc. (Midwest ISO) tendered for filing, pursuant to section 205 of the Federal Power Act (FPA), 16 U.S.C. 824d (2000) and Sections 35.16 and 385.205 of the Commission's regulations, 18 CFR 35.16 and 385.205, corrected cover sheets and other information concerning the Notice of Succession of contractual arrangements that were to be assigned to the Midwest ISO by Southern Indiana Gas & Electric Company (SIGECO). The Midwest ISO submits that its filing is in compliance with Order No. 614.

Pursuant to the Commission's regulations, 18 CFR 385.2010, the Midwest ISO has served this filing on all parties on the official service list in this proceeding. In addition, the Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: March 22, 2002.

16. Midwest Independent Transmission System Operator, Inc.

[Docket No. ER02-951-001]

Take notice that on March 1, 2002, the Midwest Independent Transmission System Operator, Inc. (Midwest ISO) tendered for filing, pursuant to section 205 of the Federal Power Act (FPA), 16 U.S.C. 824d (2000) and Sections 35.16 and 385.205 of the Commission's regulations, 18 CFR 35.16 and 385.205, corrected cover sheets and other information concerning the Notice of Succession of contractual arrangements that were to be assigned to the Midwest ISO by Northern States Power Company (NSP). The Midwest ISO submits that its filing is in compliance with Order No. 614.

Pursuant to the Commission's regulations, 18 CFR 385.2010, the Midwest ISO has served this filing on all parties on the official service list in this proceeding. In addition, the Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: March 22, 2002.

17. Mississippi Power Company

[Docket No. ER02-1179-000]

Take notice that on March 1, 2002, Mississippi Power Company and Southern Company Services, Inc., its agent, on February , 2002, tendered for filing a Service Agreement with East Mississippi Electric Power Association for DENA Station Service Delivery Point, pursuant to the Southern Companies' Electric Tariff, FERC Electric Tariff, First Revised Volume No. 4. The agreement will permit Mississippi Power to provide wholesale electric service to East Mississippi Electric Power Association at a new service delivery point.

Copies of the filing were served upon East Mississippi Electric Power Association, the Mississippi Public Service Commission, and the Mississippi Public Utilities Staff.

Comment Date: March 22, 2002.

18. Ocean State Power

[Docket No. ER02-1184-000]

Take notice that on February 28, 2002, Ocean State Power (Ocean State) tendered for filing revised pages to Rate Schedule FERC Nos. 1-4, which update Ocean State's rate of return on equity (ROE) with respect to such rate schedules.

Ocean State requests an effective date for the rate schedule changes of April 29, 2002.

Copies of the Supplements have been served upon, among others, Ocean State's power purchasers, the Massachusetts Department of Public Utilities, and the Rhode Island Public Utilities Commission.

Comment Date: March 21, 2002.

19. Montana Power Trading & Marketing Company

[Docket No. ER02-1185-000]

Take Notice that on February 28, 2002, PanCanadian Energy Services Inc. on behalf of Montana Power Trading & Marketing Company, filed with the Federal Energy Regulatory Commission (Commission), certain information as required by the Commission's January 6, 1997 order in Docket No. ER97-399-000.

Comment Date: March 21, 2002.

20. Automated Power Exchange, Inc.

[Docket No. ER02-1186-000]

Take notice that on February 28, 2002, Automated Power Exchange, Inc. (APX) submitted for filing an annual report for 2001.

Comment Date: March 21, 2002.

21. Midwest Independent Transmission System Operator, Inc.

[Docket No. ER02-1187-000]

Take notice that on March 1, 2002, pursuant to section 205 of the Federal Power Act and Section 35.16 of the Commission's regulations, 18 CFR 35.16, the Midwest Independent Transmission System Operator, Inc. (Midwest ISO) submitted for filing a Notice of Succession for certain Transmission Service Agreements and Network Transmission Service and Operating Agreements held by American Transmission Company LLC (ATC).

Copies of this filing were sent to all applicable customers under the ATC Open Access Transmission Tariff by placing a copy of the same in the United States mail, first-class postage prepaid.

Comment Date: March 22, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-5973 Filed 3-12-02; 8:45 am]

BILLING CODE 6717-01-P